ENVIRONMENTAL PROTECTION AGENCY

[FRL-6911-4]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1945.01; State Water Quality Program Management Gap Analysis; was approved 09/22/2000; OMB No. 2040-0216; expires 09/30/2003.

EPA ICR No. 1428.05; Trade Secret Claims for Emergency Planning and Community Right-to-Know (EPCRA Section 322); in 40 CFR part 350; was approved 09/22/2000; OMB No. 2050-0078; expires 09/30/2003.

EPA ICR No. 1665.03; Confidentiality Rule; in 40 CFR part 2, subpart B; was approved 09/22/2000; OMB No. 2020-0003; expires 09/30/2003.

EPA ICR No. 1064.09; NSPS for Automobile and Light Duty Truck Surface Coating Operations; in 40 CFR part 63, subpart MM; was approved 09/22/2000; OMB No. 2060-0034; expires 09/30/2003.

EPA ICR No. 0002.09; National Pretreatment Program; in 40 CFR part 403; was approved 09/28/2000; OMB No. 2040-0009; expires 09/30/2003.

EPA ICR No. 1940.02; Health Effects of Particulate Matter and Co-pollutant Exposures Near the El Paso/Juarez Border Crossings; was approved 09/29/2000; OMB No. 2080-0065; expires 09/30/2003.

EPA ICR No. 1415.04; NESHAP for Perchloroethylene (PCE) Dry Cleaning Facilities; in 40 CFR part 63.324, subpart M; was approved 09/30/2000; OMB No. 2060-0234; expires 09/30/2003.

EPA ICR No. 1774.02; Mobile Air Conditioner Retrofitting Program; in 40 CFR part 82.180; was approved 09/30/2000; OMB No. 2060-0350; expires 09/30/2003.

EPA ICR No. 1739.03; National Emission Standards for the Printing and Publishing Industry (MACT); in 40 CFR part 63, subpart KK; was approved 09/30/2000; OMB No. 2060-0335; expires 09/30/2003.

EPA ICR No. 0278.07; Notice of Supplemental Distribution of a Registered Pesticide Product; was approved 10/02/2000; OMB No. 2070-0044; expires 10/31/2003.

EPA ICR No. 1857.02; Emission Reporting Requirements for Ozone SIP Revisions (or Associated Federal Implementation Plans) Relating to Statewide Budgets for Nox Emissions to Reduce the Regional Transport of OZ; in 40 CFR part 75, subpart H; was approved 10/27/2000; OMB No. 2060-0445; expires 10/31/2003.

EPA ICR No. 1981.01; Distribution of Off-site Consequence Analysis Information under Section 112(r) of the Clean Air Act; in 40 CFR Chapter IV, part 1400; was approved 10/30/2000; OMB No. 2050-0172; expires 10/31/2003.

EPA ICR No. 1845.02; Small Spark Ignition Manufacturers Production Line Testing; in 40 CFR part 86, subpart K; was approved 10/30/2000; OMB No. 2060-0427; expires 10/31/2003.

EPA ICR No. 1962.01; Business Ownership Representation; was approved 11/20/2000; OMB No. 2030-0041; expires 11/30/2002.

Short Term Extensions

EPA ICR No. 0155.06; Certification of Pesticide Applicators; in 40 CFR part 171; OMB No. 2070-0029; on 09/26/2000 OMB extended the expiration date through 12/31/2000.

EPA ICR No. 1791.02; Establishment of No-Discharge Zones for Discharges Incidental to the Normal Operation of Armed Forces Vessels under CWA Section 312(n); in 40 CFR part 139; OMB No. 2040-0187; on 10/19/2000 OMB extended the expiration date through 02/28/2001.

EPA ICR No. 1056.06; NSPS for Nitric Acid Plants; in 40 CFR part 60, subpart G; OMB No. 2060-0019; on 10/26/2000 OMB extended the expiration date through 01/31/2001.

Comments Filed

EPA ICR No. 1665.04; Proposed Rule for Elimination of Special Treatment for Category of Confidential Business Information; on 09/26/2000 OMB filed comment.

Notice of Transfer

EPA OMB No. 2040-0186; Public Water Systems Annual Compliance Report; (Office of Water); on 09/22/2000 was transferred to OMB No. 2020-0020; (Office of Enforcement and Compliance Assurance).

Dated: November 27, 2000.
Oscar Morales,
Director, Collection Strategies Division.

[FR Doc. 00-30807 Filed 12-1-00; 8:45 am]

BILLING CODE 6560-50-P